ENVIRONMENTAL PROTECTION AGENCY

[FRL-7964-6]

Anniston Lead and Anniston PCB Superfund Sites; Notice of Proposed Settlement

AGENCY: Environmental Protection Agency (EPA).

ACTION: Notice of proposed settlement; request for public comment.

SUMMARY: Pursuant to section 122(i) of the Comprehensive Environmental Response, Compensation, and Liability Act, as amended (“CERCLA”), 42 U.S.C. 9622(i), notice is hereby given of a proposed Section 122 Administrative Agreement and Order on Consent for removal activities the Anniston Lead and Anniston PCB Superfund Sites, which includes a de minimis settlement under section 122(g)(4) of CERCLA for the Anniston PCB Superfund Site. The proposed Section 122 Administrative Agreement and Order on Consent also includes an agreement for recovery of past response costs for the Anniston Lead Superfund Site, and for the recovery of future response costs for the Anniston Lead and Anniston PCB Superfund Sites. The following parties have returned signature pages accepting EPA's offer of the proposed Section 122 Administrative Agreement and Order on Consent: DH Industries, L.L.C.; FMC Corporation, for itself and as the successor to Kilby Steel Company, Inc., and for FMC Technologies, Inc.; Huron Valley Steel Corporation; McWane, Inc. for itself and as the successor by merger with Ransom Industries, L.P.; MeadWestvaco Corporation; MRC Holdings, Inc.; MW Custom Papers, L.L.C.; Phelps Dodge Industries, Inc.; United Defense, L.P.; United States Pipe and Foundry Company, Inc.; and Walter Industries, Inc. EPA will consider public comments on the proposed Section 122 Administrative Agreement and Order on Consent until October 3, 2005. EPA may withhold consent from, or seek to modify, all or part of the proposed Section 122 Administrative Agreement and Order on Consent if comments received disclose facts or considerations that indicate that the proposed settlement is inappropriate, improper, or inadequate. The proposed settlement can be viewed at www.epa.gov/region4/waste/annistonall.htm and copies are available from: Ms. Paula V. Batchelor, U.S. Environmental Protection Agency; Region 4, Sam Nunn Atlanta Federal Center, 61 Forsyth Street, Atlanta, Georgia 30303, (404) 562-8887, Batchelor.Paula@epa.gov.

Written comments may be submitted to Mr. Michael Sparks at the above address within 30 days of the date of publication.

Dated: August 18, 2005.
Debbie H. Jourdan,
Acting Superfund Enforcement and Information Management Branch, Waste Management Division.

[FR Doc. 05-17532 Filed 9-1-05; 8:45 am]

BILLING CODE 6560-50-M